DEPARTMENT OF HOMELAND SECURITY

Coast Guard

[Docket No. USCG-2010-0783]

Invocation of Sunken Military Craft Act

AGENCY: Coast Guard, DHS.

ACTION: Notice.

SUMMARY: The Coast Guard is announcing that a C-130 aircraft which crashed off the coast of California is a sunken military craft. It is therefore prohibited for any person to engage or attempt to engage the aircraft or its contents in any way that disturbs, removes, or injures the aircraft or its contents.

FOR FURTHER INFORMATION CONTACT: If you have questions on this notice, contact LCDR Kevin Smith, Office of Aviation Forces, telephone 202-372-2211.

If you have questions on viewing the docket, call Renee V. Wright, Program Manager, Docket Operations, telephone 202-366-9826.

SUPPLEMENTARY INFORMATION: On the evening of October 29, 2009, the Coast Guard Air Station Sacramento C-130 aircraft CG 1705 collided with a Marine Corps AH-1W attack helicopter while conducting a search and rescue operation. All seven crewmembers aboard CG 1705 and both crewmembers of the Marine Corps helicopter were killed in the collision. CG 1705 was never recovered and currently rests in approximately 2450 ft of water near position: 32-58.0 N 118-10.10 W. This location now serves as the gravesite and final resting place for the U.S. Coast Guard personnel killed in the crash.

Both the Coast Guard and the Marine Corps undertook independent administrative investigations of the incident. The Coast Guard issued a Final Action on August 3, 2010, announcing the result of its investigation and ordering actions to prevent similar accidents in the future.

In this notice, the Coast Guard is announcing that the wreckage of CG 1705 is a sunken military craft, and is therefore protected under the Sunken Military Craft Act (10 U.S.C. 113 note; Pub. L. 108-375, Sections 1401-1408) (“the Act”). Pursuant to the Act, no person may engage in or attempt to engage in activity directed at the wreckage of CG 1705 that disturbs, removes, or injures the wreckage or its associated contents. These include the remains and personal effects of the crew of CG 1705.

Pursuant to Section 1404 of the Act, persons found in violation of the Act may be assessed a civil penalty of up to $100,000.

Dated: August 11, 2010.
Michael Emerson,
Captain, U.S. Coast Guard, Chief of Aviation Forces.

[FR Doc. 2010-20388 Filed 8-13-10; 4:15 pm]

BILLING CODE 9110-04-P